FEDERAL FINANCIAL INSTITUTIONS EXAMINATION COUNCIL

[Docket No. AS10-4]

Appraisal Subcommittee Notice of Meeting

AGENCY: Appraisal Subcommittee of the Federal Financial Institutions Examination Council.

ACTION: Notice of meeting.

Description: In accordance with Section 1104(b) of Title XI of the Financial Institutions Reform, Recovery, and Enforcement Act of 1989, as amended, notice is hereby given that the Appraisal Subcommittee (ASC) will meet in closed session:

Location: FDIC Building, 1776 F Street, NW., Room 4085, Washington, DC 20429.

Date: September 22, 2010.

Time: Immediately following the ASC open session beginning at 10:30 a.m.

Status: Closed.

Matters to be Considered:

July 22, 2010 minutes from closed session.

Preliminary discussion of Compliance Reviews.

Staff briefing on operational matters.

Dated: September 16, 2010.
James R. Park,
Executive Director.

[FR Doc. 2010-23568 Filed 9-20-10; 8:45 am]

BILLING CODE P